DEPARTMENT OF ENERGY

Electricity Advisory Board; Notice of Open Meeting

AGENCY: Department of Energy.

SUMMARY: This notice announces an open meeting of the Department of Energy's Electricity Advisory Board. The Federal Advisory Committee Act (Public Law 92-463, 86 Stat. 770), requires that agencies publish these notices in the Federal Register to allow for public participation.

Name: Electricity Advisory Board.

DATES: Tuesday, April 23, 2002, 1 p.m.-5 p.m.

ADDRESSES: Ronald Reagan Building and International Trade Center, Rotunda Room 8th floor, 1300 Pennsylvania Avenue, NW., Washington, DC 20004.

FOR FURTHER INFORMATION CONTACT: Dr. Craig R. Reed, Executive Director, Secretary of Energy Advisory Board (AB-1), U.S. Department of Energy, 1000 Independence Avenue, SW., Washington, DC 20585, (202) 586-7092 or (202) 586-6279 (fax).

SUPPLEMENTARY INFORMATION: The Electricity Advisory Board was chartered to provide the Secretary of Energy with essential independent advice and recommendations on electricity policy issues of importance to the Department of Energy. The Electricity Advisory Board is to provide timely, balanced, and authoritative advice to the Secretary of Energy on the Department's electricity programs; current and future capacity of the electricity system; issues related to production, reliability and utility restructuring; and coordination between the Department of Energy and state and regional officials and the private sector on matters affecting electricity supply and reliability.

Tentative Agenda

The agenda for the April 23, 2002, meeting has not been finalized. The meeting, which will begin at 1 p.m., will cover a range of issues concerning wholesale electricity markets such as the state of competition; transmission infrastructure; capitalization concerns; effects of wholesale competition on economic and environmental policy; and legislative initiatives. Several regulatory and legislative leaders have been invited to participate in the discussion. Members of the public wishing to comment will have an opportunity to address the Electricity Advisory Board during a designated public comment period. The public comment period will be limited to approximately 15 minutes and is tentatively scheduled to begin at 3:30 p.m.. The final agenda will be available at the meeting.

Public Participation

During its meeting in Washington, DC, the Electricity Advisory Board welcomes public comment. In keeping with procedures, members of the public may observe the business of the Electricity Advisory Board and submit written comments or comment in person during the scheduled public comment period. The public comment period will be limited to approximately 15 minutes. Members of the public who wish to comment during the limited public comment period will be required to sign-up in the public comment registration book available at the registration table for the Electricity Advisory Board meeting. Members of the public wishing to provide public comment are encouraged to preregister by providing advance notice via fax ((202) 586-6279), telephone ((202) 586-7092) or letter to Dr. Craig R. Reed, Executive Director, Secretary of Energy Advisory Board, AB-1, U.S. Department of Energy, 1000 Independence Avenue, SW., Washington, DC 20585. Preregistration will help the Board to determine how much time to allot to each speaker in light of the time constraints of this initial Electricity Advisory Board meeting. Members of the public will be heard in the order in which they are listed in the public comment registration book. Registration sign in for the public comment period will close before the public comment period commences. The Chairman of the Electricity Advisory Board is empowered to conduct the meeting in a way that will, in the Chairman's judgment, facilitate the orderly conduct of business. The Electricity Advisory Board will make every effort to hear the views of all interested parties. Written comments may be submitted to Dr. Craig R. Reed, Executive Director, Secretary of Energy Advisory Board, AB-1, U.S. Department of Energy, 1000 Independence Avenue, SW., Washington, DC 20585. Please advise Lisa Epifani, staff director for the Electricity Advisory Board, at least seven days before the meeting if special assistance is required to make the meeting accessible by persons with vision, hearing, or mobility disabilities. Ms. Epifani may be reached at (202) 586-5450 or (202) 586-6279 (fax).

Minutes

A copy of the minutes and a transcript of the meeting will be made available for public review and copying approximately 30 days following the meeting at the Freedom of Information Public Reading Room, 1E-190 Forrestal Building, 1000 Independence Avenue, SW., Washington, DC, between 9 a.m. and 4 p.m., Monday through Friday except Federal holidays.

Issued at Washington, DC, on April 1, 2002.
Belinda G. Hood,
Acting Deputy Advisory Committee Management Officer.

[FR Doc. 02-8235 Filed 4-4-02; 8:45 am]

BILLING CODE 6450-01-P